DEPARTMENT OF HOMELAND SECURITY

Federal Emergency Management Agency

[Docket ID FEMA-2013-0002; Internal Agency Docket No. FEMA-B-1320]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama: Houston | City of Dothan (13-04-1756P) | The Honorable Mike Schmitz, Mayor, City of Dothan, P.O. Box 2128, Dothan, AL 36302 | Engineering Department, 126 North St. Andrews Street, Dothan, AL 36303 | http://www.bakeraecom.com/index.php/alabama/houston/ | July 8, 2013 | 010104
California:
Los Angeles | City of Santa Clarita (13-09-0273P) | The Honorable Bob Kellar, Mayor, City of Santa Clarita, 23920 Valencia Boulevard, Santa Clarita, CA 91355 | Planning Department, 23920 Valencia Boulevard, Santa Clarita, CA 91355 | http://www.r9map.org/Docs/13-09-0273P-060729-102DA.pdf | July 12, 2013 | 060729
Sacramento | City of Elk Grove (13-09-0772P) | The Honorable Gary Davis, Mayor, City of Elk Grove, 8401 Laguna Palms Way, Elk Grove, CA 95758 | Public Works Department, 8401 Laguna Palms Way, Elk Grove, CA 95758 | http://www.r9map.org/Docs/13-09-0772P-060767-102IAC.pdf | July 8, 2013 | 060767
San Bernardino | City of Rancho Cucamonga (13-09-0388P) | The Honorable L. Dennis Michael, Mayor, City of Rancho Cucamonga, 10500 Civic Center Drive, Rancho Cucamonga, CA 91730 | Engineering Department, 10500 Civic Center Drive, Rancho Cucamonga, CA 91730 | http://www.r9map.org/Docs/13-09-0388P-060671-102DA.pdf | July 15, 2013 | 060671
Colorado:
Arapahoe | City of Centennial (13-08-0282P) | The Honorable Cathy Noon, Mayor, City of Centennial, 13133 East Arapahoe Road, Centennial, CO 80112 | Southeast Metro Stormwater Authority, 76 Inverness Drive East, Suite A, Englewood, CO 80112 | http://www.bakeraecom.com/index.php/colorado/arapahoe/ | June 28, 2013 | 080315
Boulder | City of Boulder (13-08-0187P) | The Honorable Matthew Appelbaum, Mayor, City of Boulder, P.O. Box 791, Boulder, CO 80306 | Municipal Building Plaza, 1777 Broadway Street, Boulder, CO 80302 | http://www.bakeraecom.com/index.php/colorado/boulder/ | July 12, 2013 | 080024
Douglas | Unincorporated areas of Douglas County (13-08-0255P) | The Honorable Jill Repella, Chair, Douglas County Board of Commissioners, 100 3rd Street, Castle Rock, CO 80104 | Douglas County Public Works Department, Engineering Division, 100 3rd Street, Castle Rock, CO 80104 | http://www.bakeraecom.com/index.php/colorado/douglas-2/ | July 12, 2013 | 080049
El Paso | City of Colorado Springs (12-08-0531P) | The Honorable Steve Bach, Mayor, City of Colorado Springs, 30 South Nevada Avenue, Colorado Springs, CO 80903 | Planning Commission, 30 South Nevada Avenue, Colorado Springs, CO 80903 | http://www.bakeraecom.com/index.php/colorado/el-paso/ | July 12, 2013 | 080060
El Paso | Unincorporated areas of El Paso County (12-08-0659P) | The Honorable Dennis Hisey, Chairman, El Paso County Board of Commissioners, 200 South Cascade Avenue, Suite 100, Colorado Springs, CO 80903 | Development Services Department, 2880 International Circle, Suite 110, Colorado Springs, CO 80910 | http://www.bakeraecom.com/index.php/colorado/el-paso/ | July 12, 2013 | 080059
Jefferson | Unincorporated areas of Jefferson County (13-08-0255P) | The Honorable Donald Rosier, Chairman, Jefferson County Board of Commissioners, 100 Jefferson County Parkway, Golden, CO 80419 | Jefferson County Department of Planning and Zoning, 100 Jefferson County Parkway, Golden, CO 80419 | http://www.bakeraecom.com/index.php/colorado/jefferson-5/ | July 12, 2013 | 080087
Routt | City of Steamboat Springs (13-08-0214P) | The Honorable Deb Hinsvark, Manager, City of Steamboat Springs, P.O. Box 775088, Steamboat Springs, CO 80477 | Centennial Hall, 124 10th Street, Steamboat Springs, CO 80477 | http://www.bakeraecom.com/index.php/colorado/routt/ | July 8, 2013 | 080159
Summit | Town of Silverthorne (13-08-0262P) | The Honorable Dave Koop, Mayor, Town of Silverthorne, P.O. Box 1309, Silverthorne, CO 80498 | Planning Commission, 601 Center Circle, Silverthorne, CO 80498 | http://www.bakeraecom.com/index.php/colorado/summit/ | July 22, 2013 | 080201
Summit | Unincorporated areas of Summit County (13-08-0262P) | The Honorable Thomas C. Davidson, Chairman, Summit County Board of Commissioners, P.O. Box 68, Breckenridge, CO 80424 | Summit County, Planning Department, 0037 Peak One Drive, Frisco, CO 80443 | http://www.bakeraecom.com/index.php/colorado/summit/ | July 22, 2013 | 080290
Florida:
Miami-Dade | City of Sunny Isles Beach (12-04-8176P) | The Honorable Norman S. Edelcup, Mayor, City of Sunny Isles Beach, 18070 Collins Avenue, Suite 250, Sunny Isles Beach, FL 33160 | Sunny Isles Beach Government Center, 18070 Collins Avenue, Sunny Isles Beach, FL 33160 | http://www.bakeraecom.com/index.php/florida/miami-dade-2/ | June 28, 2013 | 120688
Miami-Dade | Unincorporated areas of Miami-Dade County (12-04-5035P) | The Honorable Carlos A. Gimenez, Mayor, Miami-Dade County, Stephen P. Clark Center, 111 Northwest 1st Street, Miami, FL 33128 | Miami-Dade County Public Works and Waste Management Division, 701 Northwest 1st Court, Miami, FL 33136 | http://www.bakeraecom.com/index.php/florida/miami-dade-2/ | July 26, 2013 | 120635
Collier | City of Naples (13-04-1286P) | The Honorable John F. Sorey, III, Mayor, City of Naples, 735 8th Street South, Naples, FL 34102 | City Hall, 735 8th Street South, Naples, FL 34102 | http://www.bakeraecom.com/index.php/florida/collier/ | June 24, 2013 | 125130
Duval | City of Jacksonville (12-04-6121P) | The Honorable Alvin Brown, Mayor, City of Jacksonville, 117 West Duval Street, Suite 400, Jacksonville, FL 32202 | Development Services Division, 214 North Hogan Street, Suite 2100, Jacksonville, FL 32202 | http://www.bakeraecom.com/index.php/florida/duval/ | July 8, 2013 | 120077
Orange | City of Orlando (12-04-7200P) | The Honorable Buddy Dyer, Mayor, City of Orlando, P.O. Box 4990, Orlando, FL 32808 | Permitting Services Department, 400 South Orange Avenue, Orlando, FL 32801 | http://www.bakeraecom.com/index.php/florida/orange-2/ | July 5, 2013 | 120186
Orange | Unincorporated areas of Orange County (12-04-7200P) | The Honorable Teresa Jacobs, Mayor, Orange County, 201 South Rosalind Avenue, 5th Floor, Orlando, FL 32801 | Orange County Stormwater Management Division, 4200 South John Young Parkway, Orlando, FL 32839 | http://www.bakeraecom.com/index.php/florida/orange-2/ | July 5, 2013 | 120179
Georgia:
Chatham | City of Pooler (12-04-3344P) | The Honorable Mike Lamb, Mayor, City of Pooler, 100 Southwest Highway 80, Pooler, GA 31322 | Public Works Department, 1095 South Rogers Street, Pooler, GA 31322 | http://www.bakeraecom.com/index.php/georgia/chatham/ | July 12, 2013 | 130261
Chatham | Unincorporated areas of Chatham County (12-04-3344P) | The Honorable Albert J. Scott, Chairman, Chatham County Board of Commissioners, P.O. Box 8161, Savannah, GA 31412 | Chatham County Emergency Management Agency, 124 Bull Street, Suite 200, Savannah, GA 31401 | http://www.bakeraecom.com/index.php/georgia/chatham/ | July 12, 2013 | 130030
Hawaii: Maui | Unincorporated areas of Maui County (12-09-2563P) | The Honorable Alan M. Arakawa, Mayor, Maui County, 200 South High Street, 9th Floor, Wailuku, HI 96793 | Maui County Planning Department, 250 South High Street, 2nd Floor, Wailuku, HI 96793 | http://www.r9map.org/Docs/12-09-2563P-150003-102DA.pdf | July 8, 2013 | 150003
Kentucky:
Hardin | City of Elizabethtown (12-04-3244P) | The Honorable Tim C. Walker, Mayor, City of Elizabethtown, P.O. Box 550, Elizabethtown, KY 42701 | City Hall, 200 West Dixie Avenue, 2nd Floor, Elizabethtown, KY 42701 | http://www.bakeraecom.com/index.php/kentucky/hardin/ | June 7, 2013 | 210095
Hardin | Unincorporated areas of Hardin County (12-04-3244P) | The Honorable Judge Harry L. Berry, Hardin County Judge/Executive, P.O. Box 568, Elizabethtown, KY 42701 | R. R. Thomas Building, 14 Public Square, Room 206, Elizabethtown, KY 42701 | http://www.bakeraecom.com/index.php/kentucky/hardin/ | June 7, 2013 | 210094
Kenton | City of Fort Wright (12-04-6732P) | The Honorable Joe Nienaber, Jr., Mayor, City of Fort Wright, 409 Kyles Lane, Fort Wright, KY 41011 | Planning Division, 409 Kyles Lane, Fort Wright, KY 41011 | http://www.bakeraecom.com/index.php/kentucky/kenton/ | July 15, 2013 | 210249
North Carolina: Cabarrus | City of Kannapolis (11-04-5137P) | The Honorable Robert Misenheimer, Mayor, City of Kannapolis, 246 Oak Avenue, Kannapolis, NC 28081 | City Hall, 246 Oak Avenue, Kannapolis, NC 28081 | http://www.ncfloodmaps.com/fhd.htm/ | July 25, 2013 | 370469
South Carolina: Charleston | Town of Mount Pleasant (13-04-1093P) | The Honorable Billy Swails, Mayor, Town of Mount Pleasant, 100 Ann Edwards Lane, Mount Pleasant, SC 29464 | Legal Department, 100 Ann Edwards Lane, Mount Pleasant, SC 29464 | http://www.bakeraecom.com/index.php/southcarolina/charleston-2/ | July 12, 2013 | 455417
Tennessee: Sumner | City of Gallatin (12-04-4835P) | The Honorable Jo Ann Graves, Mayor, City of Gallatin, 132 West Main Street, Gallatin, TN 37066 | City Hall, 132 West Main Street, Gallatin, TN 37066 | http://www.bakeraecom.com/index.php/tennessee/sumner/ | July 18, 2013 | 470185
Utah:
Salt Lake | City of Cottonwood Heights (12-08-0817P) | The Honorable Kelvyn Cullimore, Jr., Mayor, City of Cottonwood Heights, 1265 East Fort Union Boulevard, Cottonwood Heights, UT 84047 | City Hall, 1265 East Fort Union Boulevard, Cottonwood Heights, UT 84047 | http://www.bakeraecom.com/index.php/utah/salt-lake/ | July 8, 2013 | 490028
Salt Lake | City of Midvale (12-08-0817P) | The Honorable JoAnn B. Seghini, Mayor, City of Midvale, 655 West Center Street, Midvale, UT 84047 | Engineering Department, 655 West Center Street, Midvale, UT 84047 | http://www.bakeraecom.com/index.php/utah/salt-lake/ | July 8, 2013 | 490211
San Juan | City of Monticello (12-08-0884P) | The Honorable Douglas L. Allen, Mayor, City of Monticello, 17 North 100 East, Monticello, UT 84535 | Public Works Department, 17 North 100 East, Monticello, UT 84535 | http://www.bakeraecom.com/index.php/utah/san-juan-2/ | July 18, 2013 | 490212
Wyoming:
Washakie | City of Worland (12-08-0535P) | The Honorable Dave Duffy, Mayor, City of Worland, P.O. Box 226, Worland, WY 82401 | Building and Zoning Department, 829 Big Horn Avenue, Worland, WY 82401 | http://www.bakeraecom.com/index.php/wyoming/washakie/ | July 1, 2013 | 560056
Washakie | Unincorporated areas of Washakie County (12-08-0535P) | The Honorable Aaron Anderson, Chairman, Washakie County Board of Commissioners, P.O. Box 260, Worland, WY 82401 | Washakie County Emergency Management Agency, 1001 Big Horn Avenue, Worland, WY 82401 | http://www.bakeraecom.com/index.php/wyoming/washakie/ | July 1, 2013 | 560089

(Catalog of Federal Domestic Assistance No. 97.022, “Flood Insurance.”)

Roy E. Wright,
Deputy Associate Administrator for Mitigation, Department of Homeland Security, Federal Emergency Management Agency.

[FR Doc. 2013-12921 Filed 5-30-13; 8:45 am]

BILLING CODE 9110-12-P